ENVIRONMENTAL PROTECTION AGENCY

[EPA-HQ-OPP-2024-0054; FRL-12539-01-OMS]

Agency Information Collection Activities; Submission to the Office of Management and Budget for Review and Approval; Comment Request; Pesticide Registration Fees Program (Renewal)

AGENCY: Environmental Protection Agency (EPA).

ACTION: Notice.

SUMMARY: The Environmental Protection Agency (EPA) has submitted the following information collection request (ICR), Pesticide Registration Fees Program (EPA ICR Number 2330.05 and OMB Control Number 2070-0179), to the Office of Management and Budget (OMB) for review and approval in accordance with the Paperwork Reduction Act (PRA). This is a proposed extension of the ICR, which is currently approved through January 31, 2025. Public comments were previously requested via the Federal Register on April 29, 2024 during a 60-day comment period. This notice allows for an additional 30 days for public comments.

DATES: Comments must be received on or before February 3, 2025.

ADDRESSES: Submit your comments, referencing Docket ID No. EPA-HQ-OPP-2024-0054, to EPA online using https://www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Program Support (7602M), Office of Chemical Safety and Pollution Prevention, Environmental Protection Agency, 1200 Pennsylvania Ave. NW, Washington, DC 20460-0001; telephone number: (703) 719-1649; email address: siu.carolyn@epa.gov.

SUPPLEMENTARY INFORMATION: This is a request for approval of an ICR currently approved through January 31, 2025. An agency may not conduct or sponsor and a person is not required to respond to a collection of information unless it displays a currently valid OMB control number.

Public comments were previously requested via the Federal Register on April 29, 2024, establishing a 60-day comment period (89 FR 33344). This notice allows for an additional 30 days for public comments. Supporting documents, which explain in detail the information collection activities and related estimated burden and costs that are summarized in this document, are available in the docket. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the paperwork burden hours and costs associated with the information collection activities under the pesticide registration fee program. Pesticide registrants are required by statute to pay an annual registration maintenance fee for all products registered under sections 3 and 24(c) of the Federal Insecticide, Fungicide and Rodenticide Act (FIFRA). In addition, the Pesticide Registration Improvement Act (PRIA) amended FIFRA in 2004 to create a registration service fee system for applications for specific pesticide registration, amended registration, and associated tolerance actions as per FIFRA section 33. This ICR specifically covers the activities related to the collection of the annual registration maintenance fees, the registration service fees, and the burden associated with the submission of requests for fees to be waived.

Form number(s): 8570-30.

Respondents/affected entities: Entities potentially affected are those that are pesticide importers which includes entities identified in the North American Industrial Classification System (NAICS) codes identified in question 12 of the ICR.

Respondent's obligation to respond: Mandatory, per FIFRA sections 4(i)(5) and 33.

Estimated number of potential respondents: 2,252.

Frequency of response: Annually and on occasion.

Total estimated burden: 9,058 hours (per year). Burden is defined at 5 CFR 1320.3(b).

Total estimated costs: $822,010 (per year), includes $0 annualized capital investment or maintenance and operational costs.

Changes in the estimates: There is an increase in the number of respondents by 369 and a corresponding increase of 518 hours in the total estimated respondent burden compared with that identified in the ICR currently approved by OMB. There is also an increase in costs for the regulated community by $138,709. The increase in costs ae based on updated BLS wage rates. These changes are adjustments.

Courtney Kerwin,
Director, Information Engagement Division.

[FR Doc. 2024-31467 Filed 12-31-24; 8:45 am]

BILLING CODE 6560-50-P